DEPARTMENT OF THE INTERIOR

Bureau of Land Management

[NV-952-04-1420-BJ]

Filing of Plats of Survey; Nevada

AGENCY: Bureau of Land Management, Interior.

ACTION: Notice.

SUMMARY: The purpose of this notice is to inform the public and interested State and local government officials of the filing of Plats of Survey in Nevada.

EFFECTIVE DATES: Filing is effective at 10 a.m. on the dates indicated below.

FOR FURTHER INFORMATION CONTACT: David J. Clark, Acting Chief, Branch of Geographic Sciences, Bureau of Land Management (BLM), Nevada State Office, 1340 Financial Blvd., P.O. Box 12000, Reno, Nevada 89520, 775-861-6541.

SUPPLEMENTARY INFORMATION: 1. The Plat of Survey of the following described lands was officially filed at the Nevada State Office, Reno, Nevada, on May 6, 2004: The plat representing the dependent resurvey of a portion of the subdivisional lines and the subdivision of section 13, Township 47 North, Range 58 East, Mount Diablo Meridian, Nevada, under Group No. 812, was accepted May 4, 2004.

This survey was executed to meet certain administrative needs of the Bureau of Land Management.

2. The Supplemental Plat of the following described lands was officially filed at the Nevada State Office, Reno, Nevada, on June 10, 2004: The supplemental plat, showing a subdivision of lot 1, sec. 12, T. 19 S., R. 60 E., Mount Diablo Meridian, Nevada, was accepted June 8, 2004.

This plat was prepared to meet certain administrative needs of the Bureau of Land Management.

3. The Supplemental Plat of the following described lands was officially filed at the Nevada State Office, Reno, Nevada, on June 24, 2004: The supplemental plat, showing a subdivision of lots 7 and 8, sec. 11, T. 21 S., R. 62 E., Mount Diablo Meridian, Nevada, was accepted June 22, 2004.

This plat was prepared to meet certain administrative needs of the Bureau of Land Management.

4. The above-listed surveys are now the basic record for describing the lands for all authorized purposes. These surveys have been placed in the open files in the BLM Nevada State Office and are available to the public as a matter of information. Copies of the surveys and related field notes may be furnished to the public upon payment of the appropriate fees.

Dated: July 14, 2004.
David J. Clark,
Acting Chief Cadastral Surveyor, Nevada.

[FR Doc. 04-16776 Filed 7-22-04; 8:45 am]

BILLING CODE 4310-HC-P